DEPARTMENT OF THE TREASURY

Office of Thrift Supervision

Peoples Community Bank, West Chester, OH; Notice of Appointment of Receiver

Notice is hereby given that, pursuant to the authority contained in section 5(d)(2) of the Home Owners' Loan Act, the Office of Thrift Supervision (OTS) has duly appointed the Federal Deposit Insurance Corporation as sole Receiver for Peoples Community Bank, West Chester, Ohio (OTS No. 08097), on July 31, 2009.

Dated: August 4, 2009.
By the Office of Thrift Supervision.
Sandra E. Evans,
Federal Register Liaison.

[FR Doc. E9-18968 Filed 8-10-09; 8:45 am]

BILLING CODE 6720-01-M